DEPARTMENT OF HEALTH AND HUMAN SERVICES

National Institutes of Health

Notice of a Meeting of a Working Group of the Advisory Committee to the Director

SUMMARY: The purpose of this notice is to inform the public about a meeting of the Advisory Committee to the Director (ACD) Working Group on Diversity in the Biomedical Research Workforce (WGBDRW).

DATES: The meeting will be held on Tuesday, February 14, 2012, from approximately 10 a.m. to 3:45 p.m. Letters of intent to present comments, along with a brief description of the organization represented, should be received no later than 5:00 p.m. on February 10, 2012.

ADDRESSES: The meeting will be held at the National Institutes of Health, Building 31, 31 Center Drive, Floor 6C, Room 6, Bethesda, MD 20892. Comments and letters of intent to present comments should be sent to Mr. Justin D. Hentges, Office of the Director, NIH, 1 Center Drive, Room 108, Bethesda, MD 20892; telephone (301) 443-7975; fax (301) 402-2700; email ACDDiversity@mail.nih.gov.

FOR FURTHER INFORMATION CONTACT: For additional information concerning this meeting, contact Mr. Justin D. Hentges, Office of the Director, National Institutes of Health, 1 Center Drive, Room 108, Bethesda, MD 20892; telephone (301) 443-7975; fax (301) 402-2700; email ACDDiversity@mail.nih.gov.

SUPPLEMENTARY INFORMATION: The purpose of this meeting is for the Working Group to receive public input on ways to improve the retention of underrepresented minorities, persons with disabilities, and persons from disadvantaged backgrounds throughout various research career stages. The White House Initiative on Historically Black Colleges and Universities, the White House Initiative on Educational Excellence for Hispanics, the White House Initiative on American Indian and Alaska Native Education, and the White House Initiative on Asian American and Pacific Islanders have been invited to participate in this discussion and provide their views.

The public comments session of the ACD WGBDRW is scheduled from 2:00 p.m. to 3:45 p.m., but could change depending on the actual time spent on each agenda item. Each speaker will be permitted five minutes for his/her presentation. Interested individuals and representative of organizations are requested to notify Mr. Justin D. Hentges, Office of the Director, NIH, 1 Center Drive, Room 108, Bethesda, MD 20892; telephone (301) 443-7975; fax (301) 402-2700; email ACDDiversity@mail.nih.gov. Letters of intent to present comments, along with a brief description of the organization represented, should be received no later than 5:00 p.m. on February 10, 2012. Only one representative of an organization may present oral comments. Any person attending the meeting who does not request an opportunity to speak in advance of the meeting may be considered for oral presentation, if time permits, and at the discretion of the Chairperson.

In the event that time does not allow for all those interested to present oral comments, anyone may file written comments by sending them to Mr. Justin Hentges at the address above. Comments should include the name, address, telephone number and when applicable, the business or professional affiliation of the commenter. In addition, written comments may be submitted to the corresponding Request for Information published at: http://grants.nih.gov/grants/guide/notice-files/NOT-OD-12-031.html.

The meeting will be open to the public, with attendance limited to space available. There will be a live Web cast of the meeting which can be accessed at http://videocast.nih.gov/. Individuals who plan to attend and need special assistance, such as sign language interpretation or other reasonable accommodations, should notify Mr. Justin Hentges in advance of the meeting.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

A draft agenda and materials for the meeting may be obtained by connecting to http://acd.od.nih.gov/DBR.asp.

Dated: January 25, 2012.
Lawrence A. Tabak,
Principal Deputy Director, National Institutes of Health.

[FR Doc. 2012-2215 Filed 1-31-12; 8:45 am]

BILLING CODE 4140-01-P